DEPARTMENT OF COMMERCE

National Oceanic and Atmospheric Administration

[Docket No. 000630200-0200-01; I.D. 060800F]

RIN 0648-XA55

New Bedford Harbor Trustee Council

AGENCY: National Marine Fisheries Service (NMFS), National Oceanic and Atmospheric Administration (NOAA), Commerce.

ACTION: Notice of proposed restoration ideas for implementation in New Bedford Harbor; request for comments.

SUMMARY: On behalf of the New Bedford Harbor Trustee Council (Council), NMFS, serving as the Administrative Trustee, announces that the Council is proposing 17 restoration ideas for possible implementation through funding from the AVX Natural Resource Damages Trust Account (Trust Account). Thirty-five natural resource restoration ideas were submitted for consideration by the Council. The Council now seeks comment on its proposed funding of the 17 ideas including proposed funding levels for each of those ideas. The Council had requested ideas, and proposed funding levels for those ideas, to restore natural resources that were injured by the release of hazardous substances and materials, including polychlorinated biphenyls (PCBs), in the New Bedford Harbor Environment (Harbor Environment) and in the Federal Register published on August 16, 1999).

DATES: The Council will accept comments on the proposed restoration projects through August 28, 2000.

ADDRESSES: The Council will accept written comments at the following locations: New Bedford Harbor Trustee Council, c/o National Marine Fisheries Service, 1 Blackburn Drive, Gloucester, MA 01930, Attn.: Jack Terrill, or New Bedford Harbor Trustee Council, 37 N. Second Street, New Bedford, MA 02740. Comments also may be sent via facsimile (fax) to 978-281-9301. Comments cannot be accepted if submitted via email or Internet.

FOR FURTHER INFORMATION CONTACT: Jack Terrill, Coordinator, 978-281-9136, fax 978-281-9301, or e-mail Jack.Terrill@NOAA.GOV.

SUPPLEMENTARY INFORMATION:

I. Background

New Bedford Harbor is located in Southeastern Massachusetts at the mouth of the Acushnet River on Buzzards Bay. The Harbor and River are contaminated with high levels of hazardous substances and materials, including PCBs, and as a consequence are on the U.S. Environmental Protection Agency's (EPA) Superfund National Priorities List. This site is also listed by the Massachusetts Department of Environmental Protection as a priority Tier 1 disposal site.

The Comprehensive Environmental Response, Compensation, and Liability Act (CERCLA or “Superfund,” 42 U.S.C. 9601 et seq.) designates as possible natural resource trustees Federal, state, or tribal authorities who represent the public interest in natural resources. The trustees are responsible for recovering funds through litigation or settlement for damages for natural resource injuries. CERCLA requires that any recovered monies be used to “restore, replace, or acquire the equivalent of” the natural resources that have been injured by a release of a hazardous substance.

For the New Bedford Harbor Superfund Site, there are three natural resource trustees on the Council representing the public interest in the affected natural resources. They are the Department of Commerce (DOC), the Department of the Interior, and the Commonwealth of Massachusetts. The Secretary of Commerce has delegated DOC trustee responsibility to NOAA; within NOAA, NMFS has responsibility for natural resource restoration. The Secretary of the Interior has delegated trustee responsibility to the U.S. Fish and Wildlife Service. The Governor of Massachusetts has delegated trustee responsibility to the Secretary of Environmental Affairs.

The Council issued an initial “Request for Restoration Ideas” in October 1995 (60 FR 52164, October 5, 1995)(Round I). Fifty-six ideas were received from the local communities, members of the public, academia and state and federal agencies. The ideas were the basis for the alternatives listed in the Council's “Restoration Plan for the New Bedford Harbor Environment” (Restoration Plan) that was developed to guide the Council's restoration efforts. An environmental impact statement was prepared in conjunction with the Restoration Plan to fulfill requirements of the National Environmental Policy Act. A record of decision was issued on September 22, 1998, for both the Restoration Plan and the environmental impact statement. The record of decision provided for implementation of 11 preferred restoration projects through funding provided by the Trust Account.

A second request for proposed restoration ideas was issued in August 1999 (64 FR 44505, August 16, 1999) (Round II). Thirty-five restoration ideas were submitted to the Council with total requested funding of approximately $35.0 million from the Trust Account. The Council held a meeting on October 26, 1999, to provide an opportunity for oral presentations of the submitted ideas. The Council also solicited public comments on the ideas and held a hearing on November 23, 1999, to give the public further opportunity to comment on the ideas. The project ideas were reviewed by the Council's legal advisors who provided comments regarding whether or not particular ideas satisfied the legal criteria for funding. In addition the ideas were evaluated by technical advisors who developed recommendations with respect to the technical feasibility and restoration benefits of each of the ideas.

The Council carefully considered all public comment received and the comments from its technical and legal advisors and staff. The Council discussed each idea, and following this review process, the Council identified preferred project ideas for potential funding.

The Council is now seeking public review of the preferred project ideas and the proposed level of funding for each project.

At the conclusion of the comment period, the Council will consider the comments from the public and its advisors before making any final decisions as to the projects eligible for potential funding through the Trust Account.

Upon the Council's final decisions, certain projects may require a competitive solicitation in order for the Council to provide funding. If necessary, the solicitation will be a formal request following the appropriate contract or grant procedures. Construction or implementation of the projects ultimately selected could be awarded to private entities, commercial firms, educational institutions or local, state or Federal agencies. All projects will ultimately be funded through contract or grant procedures that will provide conditions to ensure that the funds are expended prudently and as proposed.

Prior to final approval for funding, all selected projects require environmental review under applicable law and the submission of detailed scopes of work for Council review and approval. In addition, implementation of the projects may be conditioned or delayed, and the funds therefore held in reserve, until more information becomes available or specific conditions are met. Funds held in reserve will continue to be held in the interest bearing Trust Account, administered by the Court Registry Investment System of the United States District Courts.

II. The Preferred Project Ideas Recommended by the Trustee Council

Following is a description of the preferred project ideas proposed by the Council for potential implementation and funding. The Trustee Council has also make available an environmental assessment which will provide further information on the preferred project ideas and a discussion on those ideas which are not considered preferred projects, including a brief discussion of some of the reasons why the project is not preferred. This information will be made available at the Council offices (see ADDRESSES):

1. Acushnet River Valley Conservation Project (Council suggested amount: $964,000)

This idea involves the purchase of either a fee interest in, or conservation restriction for, approximately 245 acres of land along the Acushnet River. The land is characterized by 1.5 miles (2.4 kilometers) of non-tidal riverfront containing hardwood and pine forests, open farm land, red maple and shrub swamps and freshwater meadows. Accordingly, this project acquires and protects against development, the equivalent of river lands lost or injured due to contamination along the Acushnet River estuary. In addition, the acquisition and/or conservation of this land will help to restore downstream natural resources which were injured through PCB contamination. Among the primary benefits resulting from implementation of this idea would be protection of water quality downstream and the protection of passive recreation lands and/or fish and wildlife habitats. These tracts of land appear to have high habitat value and would greatly contribute to protection of the Acushnet River watershed. The cost of the land purchase or imposition of a conservation restriction at $3,900/acre appears to provide good environmental benefits for the cost. While this site is not contiguous to the area of contamination, it is expected to provide much needed protection to the injured natural resources, particularly anadromous fish injured by the contamination.

All Council-funded land purchases require a habitat value analysis, a fair market appraisal, title exam, an environmental site assessment, property boundary surveys and a conservation restriction to be held by a grantee acceptable to the Trustee Council before the project can be implemented (collectively referred to hereinafter as the “standard pre-acquisition tasks”).

2. Buzzards BayKeeper (Council suggested amount: $150,000)

The BayKeeper would be an on-the-water initiative to primarily monitor whether trustee funded projects are being properly implemented and to identify any activities that may be adversely affecting successful implementation. Accordingly, the BayKeeper will be assisting the Council's efforts to restore natural resources by monitoring the Trust Account funded projects and by providing information to assist in the effective implementation of such current and future projects. The BayKeeper is also envisioned as supporting education projects and wetland restoration activities associated with the harbor cleanup and restoration. The Council currently believes that the BayKeeper can provide additional monitoring and assistance to both existing and future Council funded projects such as eelgrass, saltmarsh and tern restoration projects as well as providing overall monitoring of activities that may adversely affect restoration projects. The funding request would support these BayKeeper activities for a 5-year period.

3. Community Rowing Boathouse (Council suggested amount: $25,000 for a study on lost recreational use, $250,000 for new boat(s) and a boathouse if the results of the study indicate a sufficient loss of access to the Harbor through recreational boating due to PCB related injury to natural resources to justify the expense of the proposed idea.)

This idea involves the purchase or construction of additional boats and the planning and construction of a boathouse to be used for an existing whaleboat rowing program for youth and adults. The boathouse facility would include space for storage, repair, maintenance, and construction of boats. If the project were funded, participation in the boating programs would be offered free of charge to all New Bedford schoolchildren.

Any funding for this idea is contingent upon obtaining the results of the study and analysis, described here, that demonstrate a loss of access to the Harbor for recreational boating due to PCB-related injury to natural resources to justify the expense of the proposal. Accordingly, if the study demonstrates a loss of access to the Harbor to recreational boating due to PCB-related injury to natural resources, the overall goal of this project is to compensate for that lost access and natural resource service by providing the equivalent of such lost access and natural resource service, by providing people with a means of direct access to the Harbor through an on-the-water activity within the Harbor. The provision of additional boats or construction of new boat(s) and/or a boathouse would address this goal by allowing an expansion of an existing harbor-oriented boating program with an emphasis on youth rowing. In addition the boathouse could possibly be used for similar programs offered by other groups. The Trustees will consider this project, and/or alternative projects to enhance boating uses, subject to further legal review.

Several of the restoration ideas received in both Round I and Round II have involved projects to restore lost recreational uses. It has become apparent that the Council requires more information on certain injuries to recreational uses of natural resources resulting from PCB contamination, before the Council can evaluate the merits of additional projects which address specific impacts to recreational use of natural resources in the Acushnet River and New Bedford Harbor. The Harbor has been closed to fishing since 1979 and swimming since 1982. The 1986 damage assessment considered lost use values associated with impacts to the commercial lobster fishery, recreational fishing, beach use and coastal property value decreases associated with public awareness of the PCB contamination. The damage assessment did not study any impacts to other recreational uses, including boating. It is not known whether these other uses were considered at the time that the prior studies were performed.

The Council recommends commissioning a study to evaluate whether there has been other lost recreational use(s) of the New Bedford Harbor Environment associated with PCB-related injuries to natural resources. The information resulting from the study would then be available to determine which access and recreation projects are legally fundable and, possibly, the level of funding the Trustees should consider relative to other recreational projects and restoration priorities.

4. Marsh Island Salt Marsh Restoration (Council suggested amount: $750,000)

The original idea (Harbor Open Space/Public Access Study) contained many aspects including the study of Marsh Island for passive recreation and environmental aspects. In reviewing this idea, the technical advisors favored the restoration of the salt marsh on Marsh Island. Of the eight sites proposed for study, the Marsh Island site appears to show the greatest potential for restoration and public access. This site could have both a salt marsh through the restoration of former tidal and/or non-tidal wetlands and re-establishment of the upland maritime plant community, and a passive recreation park. There is a bedrock outcrop at the shoreline which would make an excellent focal point for the park with the restored salt marsh and tidal gut immediately south of this outcrop.

As discussed here, this project represents the restoration of a saltmarsh, a natural resource which was injured by PCB contamination.

Some salt marshes within the New Bedford Harbor Environment are contaminated by PCBs. Species are exposed to PCBs each time they use the marsh resulting in harmful health effects. Restoration of marsh habitat that is in the vicinity of the Harbor but is not impacted by contaminants will help support resources dependent on marshes that have been injured within the Harbor Environment. Habitat for resident fish species could be restored, as well as intertidal habitat for avifauna and other marine biota. Public access via foot trails would allow direct access to the harbor.

More information is needed on the ownership of the property. In addition the standard pre-acquisition tasks would need to be satisfied before any purchase could occur. (See preliminary decision #1.)

New Bedford Aquarium

Several project ideas were submitted in association with the proposed New Bedford Aquarium. The Council reviewed the various ideas and has identified the following (#5—8) as among the preferred projects:

5. Artificial reef (Council suggested amount: up to $500,000)

The idea would be to construct a reef three to four times the size of an existing artificial reef off Salter's Point, Dartmouth, MA, constructed in 1998 using reef balls. Because bottom habitat has been adversely impacted by the release of PCBs which settled into the bottom sediments, this project should help to restore those natural resources injured by PCB sediments in the Harbor bottom. Living resources using or coming in contact with the bottom risk contamination from the PCBs. Properly constructed and appropriately located artificial reefs can: (1) enhance or replace injured fish habitat; (2) facilitate access to areas with fish species and utilization by recreational and commercial fishermen; and (3) increase total fish biomass within a given area.

The Council would provide funding for a preliminary identification of appropriate locations, and the materials and/or structures to be utilized at such locations. If a suitable location is found, a reef would be constructed with Trust funds. Funding would also include a monitoring component to determine if the goals of the project are being achieved, to identify any necessary modifications, and to ensure that intended benefits are being realized by the injured natural resources.

6. Educational exhibit on PCB impacts to natural resources and examples of how to change everyday behavior to have a positive impact on the Harbor Environment (Council suggested amount: $150,000)

The exhibit would contain essentially two components or goals. The first purpose of the exhibit would be to explain what PCBs are, what they were used for in industry, their disposal into the Harbor, and then examine the effects of PCB contamination on the six major taxonomic groups of organisms (fish, crustaceans, mollusks, plankton, annelids, birds) located in the New Bedford Harbor Environment. The exhibit would be expected to educate the public on the harmful effects of the PCB discharges and efforts being made to clean up the harbor and restore its natural resources. With this education should come a greater appreciation of the Harbor and a concern that further pollution should be prevented.

The second, and perhaps more significant, purpose of the exhibit is to educate people to change their routine or everyday behavior to have a positive impact on the New Bedford Harbor Environment and its natural resources that have been adversely affected by past PCB disposals and releases into the Harbor Environment. Examples might include the kinds of materials which should not be poured down the house-hold drain, or discarded from a boat, or otherwise disposed of into the Harbor Environment. By emphasizing simple preventative measures to a large audience, such preventive measures may ultimately produce a significant cumulative benefit. Because the Aquarium exhibit should reach a large audience, including a very significant portion of the greater New Bedford area population, it is believed that this educational exhibit should have a direct and positive impact on natural resource restoration in the harbor.

7. Marine fish stock enhancement (Council suggested amount: up to $1,950,000)

The New Bedford Aquarium proposal would construct a fish hatchery co-located at the Aquarium site. This facility will raise species that have been injured by PCB contamination for two possible purposes: First, stocking of hatchery raised fish could be one of the means of replacing some fish species, natural resources that were injured by PCBs (winter flounder, scup tautog), if a methodology can be found which is protective of the wild stocks and assists in their survival. Second, hatchery raised fish may be found to provide other ecosystem services, such as supporting the food chain in an environmentally protective way. In other words, because certain fish species were injured by PCB contamination, supplying hatchery raised fish may assist restoration efforts by reducing PCB contamination in the food chain. In order to determine if such potential restoration efforts will benefit the injured marine fish species, the Trustees need to obtain information on the feasibility and efficacy of using a hatchery facility to provide for either or both of these purposes.

While the Trustees cannot ascertain, at this point, the scope and scale of the facility that will be needed to answer these questions or to supply these needs, or the breadth and duration of the studies that will be necessary, the Trustees have earmarked up to $1,950,000 with the hope of accomplishing these goals: (A)design and implementation of a feasibility study to evaluate the potential for a hatchery facility to aid the Trustees' in restoring, replacing or acquiring the equivalent of injured fish species by satisfying either or both of the objectives described here; (B)if justified by the feasibility study, design and construct an appropriate portion of the Aquarium to house a hatchery facility to facilitate accomplishment of either or both of the objectives described above. The funding would support construction and operations of the facility for over 5 years, following which the Aquarium would be expected to continue operating the facility. It would also provide a facility which promotes a collaborative approach between Federal, state, academic and private interests that would further research capabilities on aquaculture. In addition, this facility would serve as a working exhibit of the Aquarium and would provide training, research and education capabilities which should promote aquaculture within the region. The Trustees believe that this funding amount is appropriate for a project that can provide this level of information and services for future use in restoring injured natural resources in the harbor.

The Trustees will first evaluate the outcome of the feasibility study against the current needs for restoration. Assuming that the feasibility study supports this hatchery approach, then the Trustees will need to work with the Aquarium as the design of the facility moves forward. Planning for hatchery facilities must provide for the restoration needs, including a determination of what can feasibly be built into the Aquarium to satisfy either of the dual purposes, and whether or not the studies and construction could be completed within the timeframe that would provide information to the Trustees and restoration in a timely manner.

The Aquarium proposal specified that fish produced in such a facility may also be used for human consumption. Council funding may not be used for this purpose and the proposed funding level reflects this restriction.

8. Saltmarsh creation (Council suggested amount: up to $750,000)

This idea proposes to construct a saltmarsh on the Aquarium site to be colonized with both low and high marsh plant species and animals. The saltmarsh would: (1) replace injured saltmarsh habitat, a natural resource; (2) serve as a living exhibit of the aquarium and be part of a public park; (3) remove nitrogen from the seawater effluent from the Aquarium's tanks and Harbor waters which may be used to supplement tank flows; and (4) produce marsh plants for use at the Aquarium site and throughout the Inner Harbor. Funding would be for the design, construction and planting. A boardwalk and signage would be erected to allow significant access with minimal impact to the marsh while explaining the functions of a saltmarsh to a large audience. The saltmarsh and exhibit would educate the public on the importance of preserving, restoring or creating salt marshes and, hopefully, influence a change in behavior to protect salt marshes from future development and its resultant destruction of this essential habitat.

The Council intends to reserve funding for projects 5 through 8 until after a specific funding goal for the total Aquarium has been met. The Council requests comment on this concept and suggestions regarding the amount to be raised, or other distinguishing events before release of funds should occur. Note: for certain projects it may be appropriate to release funds at an earlier time than for others. The Council is also seeking comment on its decision to have Council-funded projects available for viewing without an admission fee. Aquarium projects 6, 7, and possibly 8, would be part of the facility for which an admission fee would be charged and the Council requests suggestions on how access can be provided to these projects at no cost to the visitor.

9. Nonquitt Salt Marsh Restoration (Council suggested amount: $150,000)

This idea was originally suggested in Round I. As discussed here, this project represents the restoration of a saltmarsh, a natural resource which was injured by PCB contamination. The idea involves installing a new 100-foot (30.5-meter) culvert, remove a tidal slide gate and replace a headwall to improve tidal flushing of the 60-acre Nonquitt Marsh, Dartmouth. Some salt marshes within the New Bedford Harbor Environment are contaminated by PCBs. Species are exposed to PCBs each time they use the marsh resulting in harmful health effects. Restoration of marsh habitat that is in the vicinity of the Harbor but is not impacted by contaminants will help support resources dependent on marshes that have been injured within the Harbor Environment.

Inadequate flushing has resulted in elevated salt levels in the Nonquitt marsh. Occasionally, storms will block the culvert pipe with sediment and vegetation. This problem was compounded when a large storm in the late 1970's caused a complete blockage of the pipe which resulted in the marsh vegetation dying off due to long periods of flooding. The distressed vegetation has yet to recover and the peat within the marsh is decomposing and eroding. By improving tidal flushing of this marsh, normal salinity, vegetation and productivity of the marsh will be restored. Included in the project idea was the construction of a marsh observation platform to facilitate public access to the site.

During Round I the Council decided to postpone the final decision regarding funding of this project pending further evaluation of comments received regarding: the costs of the project and the potential for costsharing; whether other design and location alternatives are under consideration; the possible impacts to the marsh from fecal contamination and freshwater inputs; and public access to the marsh. The Council has evaluated those comments and the responses received from the applicant and determined that the project meets the criteria for funding and will provide substantial increased benefits to injured natural resources within the New Bedford Harbor Environment.

10. Popes Beach Land Purchase (North) (Council suggested amount: $55,000)

This idea proposes to purchase and place a conservation restriction on six parcels of land totaling 2.6 acres on the northwest portion of Sconticut Neck, Fairhaven. This property consists of dunes, beach, sand flats and salt marsh habitats. Just offshore are recreational shellfish beds to which the public would also be provided access. The purchase and conservation easement should contribute indirectly to the protection and restoration of that shellfish resource, a natural resource which was injured by PCB contamination. This property would add to the growing inventory of undeveloped coastal wetlands along Sconticut Neck and is contiguous to undeveloped lands in upper Priests Cove. The shoreline, tidal flats, marshes and shellfish beds within the Harbor were contaminated by the release of PCBs. The purchase of this property will acquire equivalent property to that which was impacted and will protect the habitat from future development providing a benefit to natural resources. The technical advisors believe it provides good environmental benefits at reasonable costs. The standard pre-acquisition tasks would need to be satisfied before the purchase could occur. (See preliminary decision number 1.)

11. Popes Beach Land Purchase (South) (Council suggested amount: $145,000)

This idea proposes to purchase and place a conservation restriction on approximately 3.5 acres of land on the northwest portion of Sconticut Neck, Fairhaven. The shoreline edge is characterized by a dune-like plant community. The intertidal sandflat and nearby subtidal waters provide feeding and cover habitat for estuarine finfish species. The remaining property is characterized by shrub, sapling and common reed-dominated plant community cover. The purchase and placement of a conservation restriction on this property will acquire equivalent property to that which was impacted by PCB contamination within the Harbor and will protect the habitat from future development providing a benefit to natural resources. The goal is to preserve this estuarine habitat from future development. This land is not contiguous with the other land proposed for purchase but is in the same general area. It is believed to have good habitat value which a habitat value analysis could confirm. The standard pre-acquisition tasks would need to be satisfied before the purchase could occur. (See preliminary decision #1.)

12. Regional Shellfish Grow Out Up-Well System (Council suggested amount: $500,000)

PCBs discharged into the New Bedford Harbor Environment have resulted in elevated levels of PCBs in a variety of fish and shellfish species requiring the enactment of fishing closures.

The goal of this project is to restore shellfish injured by PCB contamination through the construction of a shellfish grow out up-well system. The system is a tank-based system using recirculated sea water, and if selected, it would involve locating an appropriate site for the facility, and the design, construction and startup of the facility. Once constructed, the facility would be used to raise shellfish to a size that, after placement in the wild, would have a high probability of surviving to spawning and harvest size. This system would assist the Council's shellfish restoration efforts already receiving restoration funding. The system would allow shellfish seed to be purchased at a small size and then grown under controlled conditions to a size that would survive predation. Smaller seed is less expensive than larger seed, so this idea would allow more seed to be purchased. More areas will be seeded and there will be quicker returns for the effort. Although not included in the proposal, based on the technical advisors' recommendation, the Trustees will require this project to include a component to scientifically document the extent of success of this stocking effort.

13. Restoration and Management of Tern Populations (Council suggested amount: $1,232,000)

Roseate and common terns were injured while feeding on PCB contaminated fish in the New Bedford Harbor Environment. The project goal is to rebuild and restore the population of roseate terns(a federally listed endangered species) and common terns through management or enhancement of nesting locations. The management aspect of this project involves moving other species, such as gulls, off the nesting areas and the daily monitoring of the terns that locate at the three islands.

This idea would extend the work being conducted under restoration funding from Round I for an additional period of 6 years. Round I provided funding ($266,400) to implement biological management and monitoring of tern colonies at Bird Island, Marion, Massachusetts, and Ram Island, Mattapoisett, Massachusetts to restore population of common terns and roseate terns. At a third island, Penikese Island, Gosnold, Massachusetts, the project focused on reclaiming the island as a nesting site by managing gulls. Preliminary engineering work to stabilize Bird island and toxicological analyses of tern eggs were also funded.

14. Riverside Auto Wrecking Land Acquisition (Council suggested amount: $675,000)

This idea proposes to purchase and place conservation restrictions on four lots in Acushnet totaling approximately 14.3 acres of land in the upper harbor portion of the New Bedford Harbor Superfund Site. The purchase, and conservation restriction would preserve the land from redevelopment and provide protection to the wetlands or wetland fringe adjacent to the properties. The wetland fringe is one of the areas determined to be contaminated by PCBs and will be remediated by removing the contaminated portion followed by replanting. Accordingly this project will provide an acquisition of equivalent natural resources to those which were injured or lost due to PCB contamination.

One of the properties is the home of an auto wrecking yard and is located across the river from the Aerovox facility, one of the past sources of contamination of the harbor. The applicant hopes to use the parcels for scientific study, environmental education and habitat restoration. The purchase of these parcels (and cleanup through other funding sources) would enhance the function of the adjacent wetlands and the aesthetics of the upper harbor. The technical advisors recommended, and the Council agreed, that any funding provided be limited to purchase of, and placement of conservation restrictions on, the properties and identified restoration activities but not for the cleanup or staffing. The standard pre-acquisition tasks would need to be satisfied before the purchase could occur. (See preliminary decision number 1.)

15. Upper Harbor Confined Disposal Facility (CDF)Natural Resource Habitat Enhancements (Council suggested amount: $25,000)

This idea is to enhance the three CDFs north of Coggeshall Street being built to hold contaminated harbor sediments by incorporating plantings for habitat enhancement which could not otherwise be funded or implemented by EPA. The design of the CDFs would incorporate plantings conducive to use by birds and other wildlife for similar natural resource functions to those lost due to the contamination of the CDFs as a result of PCB contamination in the Harbor: such lost or injured natural resource functions include cover, foraging and/or feeding. The Council would like to first determine, through a study, the type of plantings that could be supported by these structures, including the sides of the structures. Such plantings would further benefit the injured natural resources present in the Harbor. If the plantings are determined to be likely to restore or replace PCB-injured natural resources in the area, the Council would consider a funding level necessary to support the plantings.

16. Upper Sconticut Neck Shellfish/Sewer Installation (Council suggested amount:$150,000 for study, $550,000 in reserve)

This restoration idea seeks to eliminate a potential source of pollution which has closed shellfish beds and recreational areas in the Outer New Bedford Harbor off Sconticut Neck, Fairhaven. Shellfish beds in the Harbor were contaminated with PCBs resulting in fishery closures. This project would replace those beds by opening up beds closed by septic contamination. It is believed that at least one of the sources of pollution into this area is individual septic systems that release fecal contaminants which eventually migrate into the harbor. Although the Town of Fairhaven has made great efforts to identify individual sources and correct the problem, the contamination still continues. To further address this problem, the idea proposes to connect 450 Sconticut Neck residential dwellings to the municipal sewer system, which may reduce fecal contamination in the Outer Harbor. This idea, if feasible, will protect an existing shellfish bed from fecal bacterial contamination.

The Council is concerned that there may be several contaminant sources that are impacting these shellfish beds. Rather than commit a significant amount of funding to correct what may be only one source of contamination, the Council would like to undertake a study to determine the sources impacting these shellfish beds and the best way to correct the source of contamination. If the results conclusively determine that the Sconticut Neck septic systems are responsible, and the idea is feasible, the Council would then release additional funds to assist the design and engineering for this project.

17. Winsegansett Field Station—New Bedford Harbor Environmental Education and Coastal Resources Restoration Center (Council suggested amount: $360,000)

This idea contains many different components which the Council believes to be severable. The Council preliminarily supports the following aspects of the idea: habitat restoration and environmental education projects targeting specific human activities. In particular, the Council believes at this time that there are discrete habitat restoration projects on the property that should be identified and implemented, including: restoring salt marsh degraded by insufficient flow (salt marshes were injured by PCBs); restoring water quality in Winsegansett Pond by investigating and correcting pollutant inputs (salt pond habitat assists natural resources injured by PCBs); and restoring living resources through eelgrass planting (eelgrass plantings assist in the restoration of natural resources injured by PCBs). These restoration activities would provide replacement for similar lost or injured natural resources in the Harbor Environment.

The Council also believes that there are opportunities to educate people about restoration of PCB injured natural resources in the New Bedford Harbor Environment through conducting activities at this site and encouraging additional restoration efforts. For example, there are eelgrass beds, saltmarsh and a salt pond located on the site. As those areas are restored, or enhanced, it may be appropriate to provide specific training programs to educate schoolchildren, the public, and municipal officials regarding the functions of these resources, and the appropriate methodologies to restore and monitor the resources in the New Bedford Harbor Environment.

The Council also evaluated the need for a full-time staff person to be funded from the New Bedford Harbor Trust Accounts. The Council chose instead only to recommend sufficient funds to allow contracting for the specific services needed. The Council also recommends some funding for the trail and public access improvements and protective/interpretative signage.

Classification

This notice does not contain a collection-of-information requirement subject to the Paperwork Reduction Act.

Authority: 42 U.S.C. 4321 et seq. and 9601 et seq.

Dated: July 21, 2000.
Andrew J. Kemmerer,
Director, Office of Habitat Conservation, National Marine Fisheries Service.

[FR Doc. 00-19028 Filed 7-26-00; 8:45 am]

BILLING CODE 3510-22-F